DEPARTMENT OF HOUSING AND URBAN DEVELOPMENT

Office of Federal Housing Enterprise Oversight

Proposed Agency Information Collection Activities; Comment Request

AGENCY: Office of Federal Housing Enterprise Oversight, HUD.

ACTION: 60-day Notice of Intent to Request Approval of Information Collection from Office of Management and Budget and request for comment.

In accordance with the Paperwork Reduction Act of 1995, 44 U.S.C. 3506(c)(2)(A), the Office of Federal Housing Enterprise Oversight (OFHEO) is issuing public notice of its intent to request the Office of Management and Budget (OMB) to approve an information collection.

The proposed information collection is published to obtain comments from the public. Comments are encouraged and will be accepted for 60 days until May 22, 2007. Comments are invited on whether the proposed collection of information is necessary for the proper performance of the functions of OFHEO, including whether the information will have practical utility; and the accuracy of OFHEO's estimates of the burden of the proposed information collection; ways to enhance the quality, utility and clarity of the information to be collected; and ways to minimize the burden of the collection of information on respondents.

You may submit your comments by any of the following methods:

• U.S. Mail, United Parcel Post, Federal Express, or Other Mail Service: The mailing address for comments is: Alfred M. Pollard, General Counsel, Attention: Comments/Information Collection, Office of Federal Housing Enterprise Oversight, Fourth Floor, 1700 G Street, NW., Washington, DC 20552.

• Hand Delivery/Courier: The hand delivery address is: Alfred M. Pollard, General Counsel, Attention: Comments “Information Collection,” Office of Federal Housing Enterprise Oversight, Fourth Floor, 1700 G Street, NW., Washington, DC 20552. The package should be logged at the Guard Desk, First Floor, on business days between 9 a.m. and 5 p.m.

• E-mail: RegComments@OFHEO.gov. The e-mail address is: RegComments@OFHEO.gov. Please include “Information Collection” in the subject line of the message, as well as your name and other contact information in the body of your comment.

OFHEO further requests that comments submitted in hard copy also be accompanied by the electronic version in Microsoft® Word or in portable document format (PDF) on 3.5″ disk or CD-ROM. Copies of all comments received will be posted without change on the OFHEO Internet Web site at http://www.ofheo.gov, including any personal information provided. Copies of all comments received will be available for examination by the public on business days between the hours of 10 a.m. and 3 p.m., at the Office of Federal Housing Enterprise Oversight, Fourth Floor, 1700 G Street, NW., Washington, DC 20552. To make an appointment to inspect comments, please call the Office of General Counsel at (202) 414-6924.

The title of the information collection is OFHEO Application for Employment; it is an on-line job application form. The application form may be made available in paper copy by request. Collection of the information is necessary to gather data concerning potential new hires for OFHEO and the information will be used to evaluate the qualifications of applicants for a variety of positions. Persons responding to the information collection are U.S. citizens applying for employment with OFHEO. The estimated number of respondents is approximately 3,100 job applicants per year. Each application takes approximately 2 hours to complete initially, for a total of 6,200 estimated annual burden hours.

For further information, or to obtain a copy of the proposed information collection, please contact Mark Laponsky, Executive Director, telephone 202-414-3832 (not a toll-free number); Office of Federal Housing Enterprise Oversight, Fourth Floor, 1700 G Street, NW., Washington, DC 20552. The telephone number for the Telecommunications Device for the Deaf is (800) 877-8339.

Dated: March 19, 2007.
James B. Lockhart, III,
Director.

[FR Doc. E7-5363 Filed 3-22-07; 8:45 am]

BILLING CODE 4220-01-P